DEPARTMENT OF COMMERCE

Foreign-Trade Zones Board

[Order No. 1222]

Approval for Expansion of Subzone 72B; Eli Lilly and Company Plants (Pharmaceuticals), Indianapolis, IN Area

Pursuant to its authority under the Foreign-Trade Zones Act of June 18, 1934, as amended (19 U.S.C. 81a-81u), the Foreign-Trade Zones Board (the Board) adopts the following Order:

Whereas, the Indianapolis Airport Authority, grantee of Foreign-Trade Zone 72, has requested authority on behalf of Eli Lilly and Company (Lilly) to add FTZ manufacturing capacity and to expand the scope of manufacturing authority under zone procedures at Subzone 72B at the Lilly plants in the Indianapolis, Indiana, area (FTZ Docket 37-2001, filed 9/13/2001);,

Whereas, notice inviting public comment has been given in the Federal Register (66 FR 48424, 9/20/01);,

Whereas, the Board adopts the findings and recommendation of the examiner's report, and finds that the requirements of the FTZ Act and Board's regulations are satisfied, and that the proposal is in the public interest;,

Now, therefore, the Board hereby orders:

The application to add capacity and to expand the scope of authority under zone procedures within Subzone 72B on behalf of Eli Lilly and Company, is approved, subject to the FTZ Act and the Board's regulations, including Section 400.28.

Signed at Washington, DC, this 15th day of April 2002.
Faryar Shirzad,
Assistant Secretary of Commerce for Import Administration, Alternate Chairman, Foreign-Trade Zones Board.

[FR Doc. 02-10079 Filed 4-23-02; 8:45 am]

BILLING CODE 3510-DS-P